DEPARTMENT OF ENERGY

Federal Energy Regulatory Commission

[Docket No. GT00-19-000]

Kinder Morgan Interstate Gas Transmission LLC; Notice of Tariff Filing

February 29, 2000.

Take notice that on February 25, 2000 Kinder Morgan Interstate Gas Transmission LLC (KMIGT), formerly KN Interstate Gas Transmission Co. (KNI) filed a complete copy of its proposed FERC Gas Tariff, Fourth Revised Volume Nos. 1-A and 1-B and Second Revised Volume Nos. 1-C and 1-D.

KMIGT states that the proposed tariff is revised only to reflect a change in name from KNI to KMIGT. No changes to the applicable Rate Schedules or General Terms and Conditions in the tariff are being made in this filing.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers
Secretary.

[FR Doc. 00-5261 Filed 3-3-00; 8:45 am]

BILLING CODE 6717-01-M